DEPARTMENT OF AGRICULTURE

Forest Service

Forest Service Handbook 2709.11, Chapter 80; Special Uses; Operating Plans and Agreements for Powerline Facilities

AGENCY: Forest Service, USDA.

ACTION: Issuance of Proposed Directives; notice of availability for public comment.

SUMMARY: The United States Department of Agriculture (USDA), Forest Service, is seeking public comment on a proposed directive implementing section 512 of the Federal Land Policy and Management Act (FLPMA), as added by the Consolidated Appropriations Act of 2018. Section 512 of FLPMA governs development, review, and approval of proposed operating plans and agreements for vegetation management, inspection, and operation and maintenance of powerline facilities on National Forest System (NFS) lands.

DATES: Comments must be received in writing by January 11, 2021.

ADDRESSES: The proposed directives are available at, and comments may be submitted electronically to, https://cara.ecosystem-management.org/Public/CommentInput?project=ORMS-2718. Comments may be mailed to Gregory C. Smith, Director, Lands and Realty Management, 1400 Independence Avenue SW, Washington, DC 20250-1124. All timely comments, including names and addresses, will be placed in the record and will be available for public inspection and copying. The public may inspect comments received at https://cara.ecosystem-management.org/Public/ReadingRoom?project=ORMS-2718.

FOR FURTHER INFORMATION CONTACT: Reggie Woodruff, Lands and Realty Management, at 202-205-1196 reginal.woodruff@usda.gov. Individuals who use telecommunication devices for the deaf may call the Federal Relay Service at 800-877-8339 between 8:00 a.m. and 8:00 p.m., Eastern Time, Monday through Friday.

SUPPLEMENTARY INFORMATION: Section 211 of division O of the Consolidated Appropriations Act of 2018 amended Title V of FLPMA, 43 U.S.C. 1761-1771, to add section 512, codified at 43 U.S.C. 1772. Section 512 of FLPMA governs development, review, and approval of proposed operating plans and agreements for vegetation management, inspection, and operation and maintenance of powerline facilities on NFS lands. Section 512 of FLPMA requires the Forest Service to promulgate implementing regulations and issue implementing agency guidance. The Forest Service promulgated regulations implementing section 512 of FLPMA on July 10, 2020 (85 FR 41387). The proposed directive would add Chapter 80 to the Special Uses Handbook, to implement section 512 of FLPMA.

The Forest Service has determined that the proposed directive would formulate standards, criteria, and guidelines applicable to a Forest Service program and is therefore publishing the proposed directive for public comment in accordance with 36 CFR part 216.

After the public comment period closes, the Forest Service will consider timely and relevant comments in developing the final directive. A notice of the final directive, including a response to timely and relevant comments, will be posted on the Forest Service's web page at https://www.fs.fed.us/about-agency/regulations-policies/comment-on-directives.

Christine Dawe,
Acting Associate Deputy Chief, National Forest System.

[FR Doc. 2020-27104 Filed 12-9-20; 8:45 am]

BILLING CODE 3411-15-P